DEPARTMENT OF TRANSPORTATION

Federal Aviation Administration

14 CFR Part 39

[Docket No. 2000-NM-165-AD; Amendment 39-12739; AD 2002-09-06]

RIN 2120-AA64

Airworthiness Directives; McDonnell Douglas Model DC-9-81 (MD-81), DC-9-82 (MD-82), DC-9-83 (MD-83), and MD-88 Airplanes

AGENCY: Federal Aviation Administration, DOT.

ACTION: Final rule.

SUMMARY: This amendment adopts a new airworthiness directive (AD), applicable to certain McDonnell Douglas Model DC-9-81 (MD-81), DC-9-82 (MD-82), DC-9-83 (MD-83), and MD-88 airplanes. This AD requires an inspection to verify proper installation of the support clamp of the alternating current (AC) power relay feeder cables at the aft inboard side of the electrical power center, and corrective actions, if necessary. This action is necessary to prevent the AC power relay feeder cables from chafing against the aft inboard side of the electrical power center due to improper installation, which could result in electrical arcing and damage to adjacent structures, and consequent smoke and/or fire in the electrical power center area. This action is intended to address the identified unsafe condition.

DATES: Effective June 6, 2002.

The incorporation by reference of certain publications listed in the regulations is approved by the Director of the Federal Register as of June 6, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; at the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-81, -82, and -83 series airplanes, and Model MD-88 airplanes, was published in the Federal Register on January 9, 2002 (67 FR 1165). That action proposed to require an inspection to verify proper installation of the support clamp of the alternating current (AC) power relay feeder cables at the aft inboard side of the electrical power center, and corrective actions, if necessary.

Comments

Interested persons have been afforded an opportunity to participate in the making of this amendment. No comments were submitted in response to the proposal or the FAA's determination of the cost to the public.

Explanation of Change to Applicability of Proposed Rule

The FAA has revised the applicability of this final rule to identify model designations as published in the most recent type certificate data sheet for the affected models.

Conclusion

After careful review of the available data, the FAA has determined that air safety and the public interest require the adoption of the rule with the change previously described. The FAA has determined that this change will neither increase the economic burden on any operator nor increase the scope of the AD.

Cost Impact

There are approximately 162 Model DC-9-81 (MD-81), DC-9-82 (MD-82), DC-9-83 (MD-83), and MD-88 airplanes of the affected design in the worldwide fleet. The FAA estimates that 90 airplanes of U.S. registry will be affected by this AD, that it will take approximately 1 work hour per airplane to accomplish the required inspection, and that the average labor rate is $60 per work hour. Based on these figures, the cost impact of the requirements of this AD on U.S. operators is estimated to be $5,400, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-09-06 McDonnell Douglas: Amendment 39-12739. Docket 2000-NM-165-AD.

Applicability: Model DC-9-81 (MD-81), DC-9-82 (MD-82), DC-9-83 (MD-83), and MD-88 airplanes; certificated in any category; as listed in McDonnell Douglas Alert Service Bulletin MD80-24A145, Revision 01, dated June 22, 2000.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent the alternating current (AC) power relay feeder cable from chafing against the aft inboard side of the electrical power center, which could result in electrical arcing and damage to adjacent structures, and consequent smoke and/or fire in the electrical power center area, accomplish the following:

Inspection

(a) Within 1 year from the effective date of this AD, do a general visual inspection to verify proper installation of the support clamp of the alternating current (AC) power relay feeder cables (includes the clamp, grommet, and sta-strap) at the aft inboard side of the electrical power center, per McDonnell Douglas Alert Service Bulletin MD80-24A145, Revision 01, dated June 22, 2000.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Proper Installation: No Further Action

(1) If the installation of the clamp, grommet, and sta-strap is correct, no further action is required by this AD.

Improper Installation: Corrective Actions

(2) If any installation of the clamp, grommet, or sta-strap is not correct, before further flight, do the actions specified in paragraphs (a)(2)(i) and (a)(2)(ii) of this AD.

(i) Do a general visual inspection of the power relay feeder cables for chafing, per the service bulletin. If any chafing is found, before further flight, repair per the service bulletin.

(ii) Install the clamp, grommet, and sta-strap, per the service bulletin.

Note 3: Accomplishment of the actions specified in McDonnell Douglas MD80-24-145, dated December 15, 1992, before the effective date of this AD, is considered acceptable for compliance with the requirements of this AD.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Incorporation by Reference

(c) The actions shall be done in accordance with McDonnell Douglas Alert Service Bulletin MD80-24A145, Revision 01, dated June 22, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

Effective Date

(d) This amendment becomes effective on June 6, 2002.

Issued in Renton, Washington, on April 24, 2002.
Lirio Liu-Nelson,
Acting Manager, Transport Airplane Directorate, Aircraft Certification Service.

[FR Doc. 02-10652 Filed 5-1-02; 8:45 am]

BILLING CODE 4910-13-P